DEPARTMENT OF HEALTH AND HUMAN SERVICES

Health Resources and Services Administration

[CFDA Number 93.224; HRSA-09-095, HRSA-09-096, HRSA-09-097, and HRSA-09-098]

Amendment to the Fiscal Year 2009 Service Area Competition—New and Competing Continuation Funding

AGENCY: Health Resources and Services Administration, HHS.

ACTION: Change in application deadline and amendment of the available service areas.

SUMMARY: HRSA is announcing the reissuance of Fiscal Year 2009 Service Area Competition—New and Competing Continuation Funding (HRSA Announcement Numbers HRSA-09-095, HRSA-09-096, HRSA-09-097, and HRSA-09-098). The HRSA Electronic Handbook (EHB) application deadline for project periods beginning in November and December 2008 has been changed and the list of available service areas has been updated.

The new EHB application deadline for HRSA-09-095 is May 9, 2008. (The grants.gov application deadline of April 7, 2008 remains the same.) All other requirements of HRSA-09-095 remain the same. Please see the chart on pages 6 and 7 of the guidance for a complete listing of all application deadlines.

In addition, corrections to two service areas listed in the Service Area Competition guidance have been made. In Appendix F of the guidance, Bismarck, ND, is incorrectly listed as an available service area in fiscal year (FY) 2009. The correct service area that is currently available in FY 2009 is Beulah, ND. Also, Clay, WV, is incorrectly listed as an available service area in FY 2009. The correct service area that is currently available in FY 2009 is Blacksville, WV. Bismarck, ND and Clay, WV, are not available service areas for the FY 2009 Service Area Competition. For a complete listing of all available service areas for the FY 2009 Service Area Competition funding opportunity, please see Appendix F of the guidance.

DATES: The effective date of this amended Agency guidance is April 24, 2008.

Background: HRSA administers the Health Center Program, which supports more than 4,000 health care delivery sites, including community health centers, migrant health centers, health care for the homeless centers, and public housing primary care centers. Health centers serve clients that are primarily low-income and minorities, and deliver comprehensive, culturally competent, quality primary health care services to patients regardless of their ability to pay. Charges for health care services are set according to income.

FOR FURTHER INFORMATION CONTACT: For questions regarding this notice, please contact Nicole Amado in the Office of Policy and Program Development, Bureau of Primary Health Care, HRSA, at 301-594-4300 or Nicole.Amado@hrsa.hhs.gov.

Dated: April 17, 2008.
Elizabeth M. Duke,
Administrator.

[FR Doc. E8-9009 Filed 4-23-08; 8:45 am]

BILLING CODE 4165-15-P